ENVIRONMENTAL PROTECTION AGENCY

40 CFR Part 300

[EPA-R04-SFUND-2006-0385; FRL-8173-8]

National Oil and Hazardous Substances Pollution Contingency Plan; National Priorities List

AGENCY: Environmental Protection Agency.

ACTION: Notice of intent to delete the Cedartown Industries, Inc. site from the National Priorities List: request for comments.

SUMMARY: The U.S. Environmental Protection Agency (EPA) Region 4 announces its intent to delete the Cedartown Industries, Inc. site (the Site) from the National Priorities List (NPL) and requests public comment on this proposed action. The NPL constitutes Appendix B of the National Oil and Hazardous Substances Pollution Contingency Plan (NCP), 40 CFR part 300, which EPA promulgated pursuant to section 105 of the Comprehensive Environmental Response, Compensation, and Liability Act (CERCLA) of 1980, as amended. EPA and the State of Georgia Environmental Protection Division (GEPD) have determined that the Site poses no significant threat to public health or the environment and therefore, further response measures pursuant to CERCLA are not appropriate.

DATES: Comments concerning this proposed action may be submitted on or before: June 26, 2006.

ADDRESSES: Submit your comments, identified by Docket ID No. EPA-R04-SFUND-2006-0385, by one of the following methods:

• http://www.regulations.gov: Follow the on-line instructions for submitting comments.

• E-mail: farrier.brian@epa.gov

• Fax: 404-562-8896/Attn Brian Farrier

• Mail: Brian Farrier, U.S. EPA Region 4, WMD-SRTSB, 61 Forsyth Street, SW., Atlanta, Georgia 30303. In addition, please mail a copy of your comments on the information collection provisions to the Office of Information and Regulatory Affairs, Office of Management and Budget (OMB), Attn Desk Officer for EPA, 725 17th Street, NW., Washington, DC 20503.

Instructions: Direct your comments to Docket ID No. EPA-R04-SFUND-2006-0385. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the U.S. EPA Region 4 office located at 61 Forsyth Street, SW., Atlanta, Georgia 30303. Regional office is open from 7 a.m. until 6:30 p.m. Monday through Friday, excluding legal holidays.

Written comments may be submitted to Brian Farrier within 30 days of the date of this publication.

FOR FURTHER INFORMATION CONTACT: Brian Farrier, U.S. Environmental Protection Agency, Region 4, Atlanta Federal Center, 61 Forsyth Street, SW., Atlanta, Georgia 30303, or e-mail at farrier.brian@epa.gov.

SUPPLEMENTARY INFORMATION:

Table of Contents

I. Introduction

II. NPL Deletion Criteria

III. Deletion Procedures

IV. Basis for Intended Site Deletion

I. Introduction

The EPA Region 4 announces its intent to delete the Cedartown Industries, Inc. site, located in Cedartown, Polk County, Georgia, from the NPL, which constitutes Appendix B of the NCP, 40 CFR Part 300, and requests comments on this proposed action. EPA identifies sites on the NPL that appear to present a significant risk to public health, welfare, or the environment. Sites on the NPL may be the subject of remedial actions financed by the Hazardous Substance Superfund Trust Fund (Fund). Pursuant to § 300.425(e)(3) of the NCP, any site deleted from the NPL remains eligible for Fund-financed remedial actions if conditions at the site warrant such action.

EPA will accept comments concerning this proposed action for thirty days after publication of this notice in the Federal Register.

II. NPL Deletion Criteria

The NCP establishes the criteria that the EPA uses to delete sites from the NPL. In accordance with 40 CFR 300.425(e), sites may be deleted from, or re-categorized on, the NPL where no further response is appropriate. In making this determination, EPA shall consider, in consultation with the State, whether any of the following criteria have been met:

(i) Responsible or other parties have implemented all appropriate response actions required;

(ii) All appropriate Fund-financed responses under CERCLA have been implemented and no further action by responsible parties is appropriate; or

(iii) The remedial investigation has shown that the release poses no significant threat to public health or the environment and, therefore, taking of remedial measures is not appropriate.

CERCLA Section 121(c), 42 U.S.C. 9621(c), provides in pertinent part that:

“If the President selects a remedial action that results in any hazardous substances, pollutants, or contaminants remaining at the Site, the President shall review such remedial action no less often than each five years after the initiation of such remedial action to assure that human health and the environment are being protected by the remedial action being implemented. * * *”

EPA policy interprets this provision of CERCLA to apply to those sites where treated, in this case solidified, waste remains on-site. On that basis, for reasons set forth below, the statutory requirement has been satisfied at this Site, and five year reviews and operation and maintenance activities will be required. In the event new information is discovered which indicates a need for further action, EPA may initiate appropriate remedial actions. In addition, whenever there is a significant release from a site previously deleted from the NPL, that site may be restored to the NPL without application of the Hazardous Ranking System. Accordingly, the Site is qualified for deletion from the NPL.

III. Deletion Procedures

EPA will accept and evaluate public comments before making a final decision on deletion. The following procedures were used for the intended deletion of the site:

1. EPA has consulted with the GEPD on this proposed action, and GEPD has concurred with the deletion decision;

2. Concurrently with this Notice of Intent, a notice has been published in local newspapers and has been distributed to appropriate federal, state and local officials and other interested parties announcing a 30-day public comment period on the proposed deletion from the NPL; and

3. The Region has made all relevant documents available at the information repositories.

The Region will respond to significant comments, if any, submitted during the comment period.

Deletion of the Site from the NPL does not itself create, alter, or revoke any individual rights or obligations. The NPL is designed primarily for informational purposes to assist Agency management.

A deletion occurs when EPA's Regional Administrator places a final notice in the Federal Register. Generally, the NPL will reflect any deletions in the final update following the Notice. Public notices and copies of the Responsiveness Summary, if any, will be made available to local residents by the Regional office.

IV. Basis for Intended Site Deletion

The following site summary provides the EPA's rationale for the intention to delete this Site from the NPL.

The Cedartown Industries, Inc. site is located in Cedartown, Polk County, Georgia. The Site is 6.8 acres in size and it was used as an iron foundry beginning in 1874, smelting iron ore from regional iron mines northwest of Cedartown. In addition to iron smelting, pumps and plow blades were manufactured, and a machine shop was operated, beginning in the 1930s. Then, from February 1978 to May 1980, the site operated a secondary lead smelting business. It is the lead smelting operations that resulted in the majority of the environmental impact at the Site.

In 1986, GEPD conducted a site inspection and found approximately 5,000 cubic yards of slag material and 32,000 gallons of wastewater in an inactive impoundment, in addition to elevated concentrations of lead and cadmium in site waste piles and in the soil.

EPA proposed the site for inclusion on the NPL in June 1988, finalizing the site's listing in February 1990.

In March 1990, under the direction of the EPA, an Interim Waste Removal was implemented to remove the slag pile, contaminated soil and debris, wastewater, and impoundment sediment from the site; in all, a total of 8,380 tons of solid material was disposed of off-site, in addition to 485, 360 pounds of liquid waste and a small amount of reclaimed coke.

Based on Cedartown Industries, Inc. records and other information, GEPD and EPA identified a number of potentially responsible parties (PRPs). In 1990, the Cedartown Industries, Inc. PRP Group entered into an Administrative Order of Consent with EPA. This Order required the Cedartown Industries, Inc. PRP Group to conduct a Remedial Investigation and Feasibility Study (RI/FS) at the site. The RI/FS was conducted from 1990 to 1993. The purpose of the RI is to identify the nature and extent of contamination, whereas the purpose of the FS is to identify the options available to remediate this contamination.

The RI documented inorganic contamination in soil and groundwater. After reviewing the results of the RI/FS, EPA issued a Record of Decision (ROD) on May 7, 1993. The selected remedy called for the excavation and onsite treatment of impacted soils by stabilization/solidification, with onsite disposal. Soils with lead levels above 500 milligrams per kilogram were excavated; these soils were then treated until four treatment standards were met, as detailed in the ROD. In addition, the ROD also called for monitoring of the groundwater beneath the site, with a contingency remedy to be invoked at EPA's discretion, as necessary.

On May 24, 1994, a Consent Decree was negotiated between EPA and the Cedartown Industries, Inc. PRP Group, for the performance of the Remedial Design and the Remedial Action.

The Remedial Action was implemented in 1996, with a total of 11,555 cubic yards of soils excavated and treated. The final inspection was conducted at the site on August 8, 1996, with representatives present from EPA, EPA's oversight contractor, GEPD, the supervising contractor, and the remediation contractor, and the property owner. This inspection indicated that components of the remedy had been constructed in accordance with the ROD and the remedial design, with two outstanding items identified: Proper establishment of the vegetative ground cover (i.e., grass) and stormwater accumulation. Plans were made to address these two items and a certificate of construction completion was submitted to EPA in September 1996, with EPA approval in March 1997. Long term groundwater monitoring was implemented in September 1996 with quarterly monitoring through 1998, followed by semi-annual monitoring beginning in 1999. The contingent groundwater remedy was not invoked at this site; the latest sampling performed in 2005 showed no results above groundwater standards.

In September 2001, EPA finalized a Five Year Review for this site, which included a site walk-through inspection. The only deficiency noted during the Five Year Review was the lack of a comprehensive deed restriction, which has since been addressed. The Five Year Review concluded that the remedy is functioning as intended and is protective of human health and the environment.

EPA, with the concurrence of the GEPD, has determined that all appropriate actions at the Cedartown Industries, Inc. site have been completed, and no further remedial action is necessary. Therefore, EPA is proposing deletion of the Site from the NPL.

Editorial Note: This document was received in the Office of the Federal Register May 19, 2006.

Dated: February 22, 2006.
J.I. Palmer, Jr.,
Regional Administrator, Region 4.

[FR Doc. E6-7928 Filed 5-25-06; 8:45 am]

BILLING CODE 6560-50-P